DEPARTMENT OF HOMELAND SECURITY

Federal Emergency Management Agency

44 CFR Part 65

[Docket ID FEMA-2008-0020; Internal Agency Docket No. FEMA-B-1027]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes to BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
California:
Humboldt | City of Eureka (08-09-0189P), (08-09-0941P) | April 10, 2008; April 18, 2008; The Eureka Reporter | The Honorable Nancy Flemming, Mayor, City of Eureka, 531 K Street, Eureka, CA 95501 | August 18, 2008 | 060062
Santa Barbara | Unincorporated areas of Santa Barbara County (08-09-0425P) | October 24, 2008; October 31, 2008; Santa Barbara News Press | The Honorable Salud Carbajal, Chairman, Santa Barbara County Board of Supervisors, 105 East Anapamu Street, Santa Barbara, CA 93101 | March 2, 2009 | 060331
San Bernardino | City of San Bernardino (07-09-1656P) | February 14, 2008; February 21, 2008; San Bernardino County Sun | The Honorable Patrick J. Morris, Mayor, City of San Bernardino, 300 North “D” Street, San Bernardino, CA 92418 | January 31, 2008 | 060281
Colorado:
Arapahoe | City of Littleton (08-08-0251P) | November 13, 2008; November 20, 2008; Littleton Independent | The Honorable Doug Clark, Mayor, City of Littleton, 2255 West Berry Avenue, Littleton, CO 80165 | March 20, 2009 | 080017
Douglas | Unincorporated areas of Douglas County (07-08-0862P) | February 14, 2008; February 21, 2008; Douglas County News Press | The Honorable Steven A. Boand, Chairman, Douglas County Board of Commissioners, 100 Third Street, Castle Rock, CO 80104 | May 22, 2008 | 080049
El Paso | Unincorporated areas of El Paso County (08-08-0381P) | November 26, 2008; December 3, 2008; Tri Lakes Tribune | The Honorable Dennis Hisey, Chairman, El Paso County Board of Commissioners, 27 East Vermijo Avenue, Colorado Springs, CO 80903 | April 2, 2009 | 080059
El Paso | Town of Monument (08-08-0381P) | November 26, 2008; December 3, 2008; Tri Lakes Tribune | The Honorable Catherine Green, Manager, Town of Monument, P.O. Box 325, Monument, CO 80132 | April 2, 2009 | 080064
Jefferson | City of Westminster (08-08-0666P) | November 13, 2008; November 20, 2008; Westminster Window | The Honorable Nancy McNally, Mayor, City of Westminster, 4800 West 92nd Avenue, Westminster, CO 80031 | March 20, 2009 | 080008
Mesa | City of Fruita (08-08-0501P) | November 14, 2008; November 21, 2008; The Daily Sentinel | The Honorable Ken Henry, Mayor, City of Fruita, 325 East Aspen Avenue, Fruita, CO 81521 | October 31, 2008 | 080194
Mesa | Unincorporated areas of Mesa County (08-08-0501P) | November 14, 2008; November 21, 2008; The Daily Sentinel | The Honorable Craig J. Meis, Commissioner, District 1, Mesa County Board of Commissioners, P.O. Box 20000, Grand Junction, CO 81502 | October 31, 2008 | 080115
Florida:
Dixie | Town of Horseshoe Beach (08-04-0954P), (08-04-2115X) | January 31, 2008; February 7, 2008; Dixie County Advocate | The Honorable George T. Kight, Mayor, Town of Horseshoe Beach, P.O. Box 86, Horseshoe Beach, FL 32648 | March 19, 2008 | 120326
Orange | City of Orlando (08-04-3498P) | November 13, 2008; November 20, 2008; Orlando Weekly | The Honorable John Dyer, Mayor, City of Orlando, P.O. Box 4990, Orlando, FL 32802 | March 20, 2009 | 120186
Walton | Unincorporated areas of Walton County (08-04-3897P) | November 13, 2008; November 20, 2008; The DeFuniak Springs Herald Breeze | The Honorable Larry Jones, Chairman, Walton County Board of Commissioners, 117 Montgomery Circle, DeFuniak Springs, FL 32435 | March 20, 2009 | 120317
Hawaii: Honolulu | City and County of Honolulu (08-09-0558P) | July 14, 2008; July 21, 2008; Honolulu Star Bulletin | The Honorable Mufi Hannemann, Mayor, City and County of Honolulu, 530 South King Street, Room 300, Honolulu, HI 96813 | November 18, 2008 | 150001
Kansas:
Reno | City of Hutchinson (08-07-0175P) | November 12, 2008; November 19, 2008; The Hutchinson News | The Honorable Trish Rose, Mayor, City of Hutchinson, P.O. Box 1567, Hutchinson, KS 67504 | October 31, 2008 | 200283
Reno | Unincorporated areas of Reno County (08-07-0175P) | November 12, 2008; November 19, 2008; The Hutchinson News | Mr. Larry Sharp, Chair, Reno County Commission, Reno County Courthouse, 206 West First Avenue, Hutchinson, KS 67501 | October 31, 2008 | 200567
Sedgwick | City of Wichita (09-07-0232P) | November 24, 2008; December 1, 2008; The Wichita Eagle | The Honorable Carl Brewer, Mayor, City of Wichita, 455 North Main Street, Wichita, KS 67202 | November 14, 2008 | 200328
Maryland: Carroll | Unincorporated areas of Carroll County (08-03-0921P) | November 12, 2008; November 19, 2008; Carroll County Times | The Honorable Julia Gouge, Commissioner, Carroll County Commissioners, 225 North Center Street, Westminster, MD 21157 | March 19, 2009 | 240015
North Carolina:
Wake | City of Raleigh (08-04-0177P) | November 12, 2008; November 19, 2008; The News and Observer | The Honorable Charles Meeker, Mayor, City of Raleigh, P.O. Box 590, Raleigh, NC 27602 | March 19, 2009 | 370243
Wake | Town of Knightdale (08-04-0177P) | November 12, 2008; November 19, 2008; Eastern Wake News | The Honorable Russell B. Killen, Mayor, Town of Knightdale, 1103 Belfry Drive, Knightdale, NC 27545 | March 19, 2009 | 370241
Wake | Unincorporated areas of Wake County (08-04-0177P) | November 12, 2008; November 19, 2008; The News and Observer | Mr. David C. Cooke, Manager, Wake County, P.O. Box 550, Raleigh, NC 27602 | March 19, 2009 | 370368
Oklahoma: Carter | City of Ardmore (08-06-1238P) | July 17, 2008; July 24, 2008; Daily Ardmoreite | The Honorable Martin Dyer, Mayor, City of Ardmore, P.O. Box 249, Ardmore, OK 73402 | November 21, 2008 | 400031
South Carolina:
Beaufort | Unincorporated areas of Beaufort County (08-04-4422P) | November 21, 2008; November 28, 2008; The Beaufort Gazette | The Honorable Gary T. Kubic, Beaufort County Administrator, P.O. Box 1228, Beaufort, SC 29901-1228 | March 30, 2009 | 450025
Jasper | Town of Hardeeville (08-04-4422P) | November 19, 2008; November 26, 2008; Jasper County Sun | The Honorable Bronco Bostick, Mayor, Town of Hardeeville, 205 East Main Street, Hardeeville, SC 29927 | March 30, 2009 | 450113
Jasper | Unincorporated areas of Jasper County (08-04-4422P) | November 19, 2008; November 26, 2008; Jasper County Sun | The Honorable George Hood, Chairman, Jasper County Council, P.O. Box 1149, Ridgeland, SC 29936 | March 30, 2009 | 450112
Tennessee:
Sumner | City of Gallatin (08-04-5293P) | November 13, 2008; November 20, 2008; The Gallatin Newspaper | The Honorable Jo Ann Graves, Mayor, City of Gallatin, 132 West Main Street, Gallatin, TN 37066 | March 20, 2009 | 470185
Williamson | City of Spring Hill (07-04-6295P) | September 2, 2008; September 9, 2008; The Daily Herald | The Honorable Danny M. Laverette, Mayor, City of Spring Hill, 199 Town Center Parkway, Spring Hill, TN 37174 | August 22, 2008 | 470278
Texas:
Bexar | City of San Antonio (08-06-1354P) | November 12, 2008; November 19, 2008; San Antonio Express News | The Honorable Phil Hardberger, Mayor, City of San Antonio, P.O. Box 839966, San Antonio, TX 78283 | March 19, 2009 | 480045
Brazos | City of College Station (08-06-2506P) | November 14, 2008; November 21, 2008; Bryan College Station Eagle | The Honorable Ben White, Mayor, City of College Station, P.O. Box 9960, College Station, TX 77842 | March 23, 2009 | 480083
Denton | Town of Northlake (07-06-2017P) | November 13, 2008; November 20, 2008; Fort Worth Star Telegram and Denton Record Chronicle | The Honorable Robin Young, Mayor, Town of Northlake, 1301 FM 407, Northlake, TX 76247 | March 20, 2009 | 480782
Tarrant | City of Arlington (07-06-0980P) | March 6, 2008; March 13, 2008; Star Telegram | The Honorable Robert Cluck, M.D., Mayor, City of Arlington, 101 West Abram Street, Arlington, TX 76004-0231 | July 11, 2008 | 485454
Tarrant | City of Fort Worth (07-06-2017P) | November 13, 2008; November 20, 2008; Fort Worth Star Telegram and Denton Record Chronicle | The Honorable Mike J Moncrief, Mayor, City of Fort Worth, 1000 Throckmorton Street, Fort Worth, TX 76102 | March 20, 2009 | 480596
Tarrant | City of Fort Worth (07-06-0931P) | May 1, 2008; May 8, 2008; Fort Worth Star Telegram | The Honorable Mike J Moncrief, Mayor, City of Fort Worth, 1000 Throckmorton Street, Fort Worth, TX 76102 | April 28, 2008 | 480596
Tarrant | City of Fort Worth (08-06-0062P) | August 21, 2008; August 28, 2008; Fort Worth Star Telegram | The Honorable Mike J Moncrief, Mayor, City of Fort Worth, 1000 Throckmorton Street, Fort Worth, TX 76102 | December 26, 2008 | 480596
Tarrant | City of Fort Worth (08-06-0542P) | May 1, 2008; May 8, 2008; Fort Worth Star Telegram | The Honorable Mike J Moncrief, Mayor, City of Fort Worth, 1000 Throckmorton Street, Fort Worth, TX 76102 | September 11, 2008 | 480596
Tarrant | City of Fort Worth (07-06-1996P), (08-06-2520P) | August 21, 2008; August 28, 2008; Fort Worth Star Telegram | The Honorable Mike J Moncrief, Mayor, City of Fort Worth, 1000 Throckmorton Street, Fort Worth, TX 76102 | December 26, 2008 | 480596
Tarrant | City of Fort Worth (08-06-1494P) | July 24, 2008; July 31, 2008; Fort Worth Star Telegram | The Honorable Mike J Moncrief, Mayor, City of Fort Worth, 1000 Throckmorton Street, Fort Worth, TX 76102 | November 21, 2008 | 480596
Tarrant | Unincorporated areas of Tarrant County (08-06-0542P) | May 1, 2008; May 8, 2008; Fort Worth Star Telegram | The Honorable B. Glen Whitley, Tarrant County Judge, 100 East Weatherford Street, Suite 501, Fort Worth, TX 76196 | September 11, 2008 | 480582
Tarrant | Unincorporated areas of Tarrant County (08-06-1494P) | July 24, 2008; July 31, 2008; Fort Worth Star Telegram | The Honorable Glen Whitley, Tarrant County Judge, 100 East Weatherford, Suite 501, Fort Worth, TX 76196 | November 21, 2008 | 480582
Wisconsin:
Dunn | Village of Boyceville (07-05-5620P) | November 19, 2008; November 26, 2008; Tribune Press Reporter | The Honorable Gilbert Krueger, President, Village of Boyceville, 903 Main Street, Boyceville, WI 54725 | March 26, 2009 | 550119
Juneau | Unincorporated areas of Juneau County (08-05-2953P) | November 13, 2008; November 20, 2008; The Messenger of Juneau County | The Honorable Alan Peterson, Chairman, Juneau County, N3161 Highway G, Mauston, WI 53948 | December 2, 2008 | 550580
Juneau | Village of Union Center (08-05-2953P) | November 13, 2008; November 20, 2008; The Messenger of Juneau County | The Honorable Darold Minett, Mayor, Village of Union Center, P.O. Box 96, Union Center, WI 53962 | December 2, 2008 | 550207
Juneau | Village of Wonewoc (08-05-2953P) | November 13, 2008; November 20, 2008; The Messenger of Juneau County | The Honorable Kevin Jennings, President, Village of Wonewoc, P.O. Box 37, Wonewoc, WI 53968 | December 2, 2008 | 550208

(Catalog of Federal Domestic Assistance No. 97.022, “Flood Insurance.”)

Dated: December 24, 2008.
Michael K. Buckley,
Acting Assistant Administrator, Mitigation Directorate, Department of Homeland Security, Federal Emergency Management Agency.

[FR Doc. E9-76 Filed 1-7-09; 8:45 am]

BILLING CODE 9110-12-P